NUCLEAR REGULATORY COMMISSION

Notice of Public Scoping Meeting and Solicitation of Scoping Comments Related to the Standard Review Plan for Waste Determination Reviews

AGENCY: United States Nuclear Regulatory Commission (NRC).

ACTION: Notice; Scoping meeting and opportunity to comment.

SUMMARY: The NRC announces its intent to conduct a public scoping meeting to present an overview of the proposed outline for the Standard Review Plan (SRP) for Waste Determination Reviews and to accept oral and written public comments. The meeting date, time and location are listed below:

Meeting Date: Thursday, November 10, 2005.

Meeting Location: Hilton Gaithersburg, 620 Perry Parkway, Gaithersburg, Maryland 20877, 301-977-8900, http://www.hilton.com/en/hi/hotels/index.jhtml;jsessionid=LMCCLDIIWRZ1KCSGBIX2VCQKIYFCXUUC?ctyhocn=GAIGHHF.

SRP Meeting Agenda:

12:30 p.m.-1 p.m. Meeting Registration

1:00 p.m.-1:15 p.m. Welcome & Introductory Remarks

1:15 p.m.-1:45 p.m. NRC Roles & Responsibilities

1:45 p.m.-2:15 p.m. SRP Overview

2:15 p.m.-2:30 p.m. Questions

2:30 p.m.-2:45 p.m. Break

2:45 p.m.-4:45 p.m. Comments on the Scope of the SRP

4:45 p.m.-5 p.m. Closing Remarks

Background

On October 9, 2004, the Ronald W. Reagan National Defense Authorization Act for Fiscal Year 2005 (NDAA) was passed by Congress and was signed by the President on October 28, 2004. Section 3116 of the NDAA allows the U.S. Department of Energy (DOE) to determine that certain waste stemming from reprocessing of spent nuclear fuel is not high-level-waste (HLW). However, the NDAA is applicable only in the States of South Carolina and Idaho and does not apply to waste transported out of these States. The NDAA requires that: (1) DOE consult with NRC on all of its waste determinations in South Carolina and Idaho, and (2) NRC, in coordination with the State, monitor disposal actions taken by DOE for the purpose of assessing compliance with NRC regulations in 10 CFR part 61, subpart C. If the NRC determines that any disposal actions taken by DOE are not in compliance, the NDAA requires NRC to inform DOE, the affected State, and congressional subcommittees. In addition to NDAA activities conducted at the Savannah River Site (SRS) and Idaho National Laboratory (INL), DOE may make similar waste determinations at its Hanford site and at the West Valley Demonstration Project (WVDP) and may request NRC to provide technical reviews of those determinations. The staff has described its plans for implementing its activities under the NDAA in SECY-05-0073 and the Commission approved the plans in the corresponding Staff Requirements Memorandum dated June 30, 2005.

The NRC staff is developing a waste determination Standard Review Plan (SRP) to provide guidance to staff on reviewing waste determination information and analyses. This meeting is an opportunity for interested parties to submit comments on the scope of the SRP. The draft SRP will also be published for public comment and the comments received will be considered by the staff during development of the final SRP.

Draft SRP Outline

Introduction

Background for SRP

How To Use the SRP

Updating the SRP

Structure of the SRP

Introduction to WIR and NDAA

Role of NRC in NDAA

Site-Specific and General Information

Site-Specific System Description Information

Applicable Waste Criteria

Prior Waste Determinations

Site-Specific Criteria for West Valley (West Valley Final Policy Statement), Hanford (DOE Order 435.1), Savannah River and Idaho National Laboratory (National Defense Authorization Act, Section 3116)

Removal of Radionuclides

Concentration Limits

Compliance With Performance Objectives of 10 CFR Part 61, Subpart C

Disposal

Modeling Approach

Source-Term Development

Climate and Infiltration

Engineered Barriers and Near-Field Radionuclide Transport

Far-Field Radionuclide Transport

Modifying Scenarios, Pathways, and Receptor Groups

Conceptual Models

Computer Codes/Models

Input Parameter Values

Evaluating Model Results

ALARA Analyses

References

Protection of Individuals During Operations

Inadvertent Intrusion

Scenarios for Modeling

Site Stability

Quality Assurance Program

Monitoring

Monitoring Methods

Demonstrating Compliance With 10 CFR 61, Subpart C

Noncompliance Reports

Appendices

The SRP scoping meeting officially begins at 1 p.m. and will include: (1) A presentation summarizing NRC roles and responsibilities, (2) an overview of the proposed draft SRP, and (3) an opportunity for interested government agencies, organizations, and individuals to provide comments on the scope of the SRP. This meeting will be transcribed by a court reporter. Persons wishing to provide oral comments will be asked to register at the meeting entrance. Individual oral comments may have to be limited to 5 minutes each, depending upon the number of persons who register. Please note that comments do not have to be provided at the public meeting and may be submitted at any time before November 25, 2005, as described in the DATES and ADDRESSES sections of this notice.

DATES: The public comment period on the SRP begins with publication of this notice and continues until November 25, 2005. Written comments should be submitted as described in the ADDRESSES section of this notice. Comments submitted by mail should be postmarked by that date to ensure consideration. Comments received or postmarked after that date will be considered to the extent practical. A public meeting to discuss the proposed draft SRP will be held on November 10, 2005 as described in the SUMMARY section of this notice.

ADDRESSES: Members of the public are invited and encouraged to submit comments to the Division of Waste Management and Environmental Protection, Low-Level Waste Section Chief, Mail Stop T7-J08, U.S. Nuclear Regulatory Commission, Washington, DC 20555-0001. Please note Docket No. POOM-32, PROJ0734, PROJ0735, PROJ0736 when submitting comments. Comments will also be accepted by e-mail at AHB1@nrc.gov or by facsimile to (301) 415-5397, Attention: Anna Bradford with a subject line containing the document identifier: SRP.

FOR FURTHER INFORMATION CONTACT: For questions related to the Standard Review Plan, please contact Anna Bradford at (301) 415-5228. For public scoping meeting questions, please contact Michele O'Shaughnessy at (301) 415-6659.

Dated at Rockville, Maryland, this 26th day of October 2005.
For the Nuclear Regulatory Commission.
Ryan Whited,
Chief, Low-Level Waste Section, Environmental and Performance Assessment Directorate, Division of Waste Management and Environmental Protection, Office of Nuclear Material Safety and Safeguards.

[FR Doc. E5-6056 Filed 11-1-05; 8:45 am]

BILLING CODE 7590-01-P